UNITED STATES INSTITUTE OF PEACE

Announcement of the Fall 2004 Solicited Grant Competition Grant Program

AGENCY: United States Institute of Peace.

ACTION: Notice.

SUMMARY: The Agency announces its upcoming Fall 2004 Solicited Grant Competition. The solicited grant competition is restricted to projects that fit specific themes and topics identified in advance by the Institute of Peace.

The themes and topics for the fall 2004 solicited competition are:

• Solicitation A: The Economics of War and Peace.

• Solicitation B: Southeast Asia.

Deadline: October 1, 2004. Application material available on request.

DATES: Receipt of application: October 1, 2004. Notification date: March 31, 2005.

ADDRESSES: For more information and an application package: United States Institute of Peace, Grant Program, Solicited Grants, 1200 17th Street, NW., Suite 200, Washington, DC 20036-3011, (202) 429-3842 (phone); (202) 833-1018 (fax); (202) 457-1719 (TTY); e-mail: grants@usip.org. Application material available on-line: http://www.usip.org/grants.

FOR FURTHER INFORMATION CONTACT: The Grant Program, phone (202) 429-3842, e-mail: grants@usip.org.

Dated: May 25, 2004.
Craig Feight,
Director, Office of Administration.

[FR Doc. 04-12196 Filed 5-28-04; 8:45 am]

BILLING CODE 6820-AR-M